DEPARTMENT OF TRANSPORTATION

Federal Aviation Administration

14 CFR Part 71

[Docket No. FAA-2019-0677; Airspace Docket No. 19-ACE-5]

RIN 2120-AA66

Revocation of VHF Omnidirectional Range (VOR) Federal Airway V-61 and Amendment of Area Navigation Route T-286 Due to the Decommissioning of the Robinson, KS, VOR

AGENCY: Federal Aviation Administration (FAA), DOT.

ACTION: Final rule, delay of effective date.

SUMMARY: This action changes the effective date of a final rule published in the Federal Register on March 9, 2020, removing VHF Omnidirectional Range (VOR) Federal airway V-61 and extending area navigation (RNAV) route T-286 in its place due to the planned decommissioning of the Robinson, KS, VOR navigation aid (NAVAID). The FAA is delaying the effective date to coincide with the slipped decommissioning date of the Robinson VOR to September 10, 2020, and the anticipated completion of pre-requisite air traffic control (ATC) training necessary to safely implement new air traffic procedures necessary to adopt the rule amendments.

DATES: The effective date of the final rule published on March 9, 2020 (85 FR 13481) is delayed until September 10, 2020. The Director of the Federal Register approved this incorporation by reference action under Title 1 Code of Federal Regulations part 51, subject to the annual revision of FAA Order 7400.11 and publication of conforming amendments.

FOR FURTHER INFORMATION CONTACT: Colby Abbott, Rules and Regulations Group, Office of Policy, Federal Aviation Administration, 800 Independence Avenue SW, Washington, DC 20591; telephone: (202) 267-8783.

SUPPLEMENTARY INFORMATION:

Background

The FAA published a final rule in the Federal Register for Docket No. FAA-2019-0677 (85 FR 13481, March 9, 2020), removing VOR Federal airway V-61 in its entirety and extending RNAV route T-286 in its place due to the planned decommissioning of the Robinson, KS, VOR NAVAID. The effective date for that final rule is May 21, 2020. Subsequent to the final rule, due to COVID-19 pandemic concerns and response considerations, ATC facilities across the National Airspace System (NAS) have adjusted controller scheduling and reduced staffing to reduce pandemic impacts. This has resulted in controller training and briefing challenges while they perform essential ATC duties supporting the NAS. As a result, some ATC facilities affected by the rule amendments were unable to complete the required pre-requisite controller training necessary to safely implement new air traffic procedures necessary to adopt the regulatory air traffic service (ATS) route amendments, and accompanying arrival procedure actions, to support the May 21, 2020, effective date.

To facilitate the safe and continuous use of existing air traffic procedures, and allow sufficient time for ATC facilities to complete the required prerequisite training necessary to safely implement the new air traffic procedures, the planned decommissioning of the Robinson, KS, VOR has been slipped to September 10, 2020. Therefore, the rule removing V-61 and amending T-286 is delayed to coincide with that date.

VOR Federal airways are published in paragraph 6010(a) and RNAV T-routes are published in paragraph 6011 of FAA Order 7400.11D dated August 8, 2019, and effective September 15, 2019, which is incorporated by reference in 14 CFR 71.1. The VOR Federal airways and RNAV T-route listed in this document will be subsequently published in the Order.

FAA Order 7400.11, Airspace Designations and Reporting Points, is published yearly and effective on September 15.

Good Cause for No Notice and Comment

Section 553(b)(3)(B) of Title 5, United States Code, (the Administrative Procedure Act) authorizes agencies to dispense with notice and comment procedures for rules when the agency for “good cause” finds that those procedures are “impracticable, unnecessary, or contrary to the public interest.” Under this section, an agency, upon finding good cause, may issue a final rule without seeking comment prior to the rulemaking. The FAA finds that prior notice and public comment to this final rule is unnecessary due to the brief length of the extension of the effective date and the fact that there is no substantive change to the rule.”

Delay of Effective Date

Accordingly, pursuant to the authority delegated to me, the effective date of the final rule, Airspace Docket 19-ACE-5, as published in the Federal Register on March 9, 2020 (85 FR 13481), FR Doc. 2020-04657, is hereby delayed until September 10, 2020.

Authority: 49 U.S.C. 106(f), 106(g); 40103, 40113, 40120; E.O. 10854, 24 FR 9565, 3 CFR, 1959-1963 Comp., P. 389.

Issued in Washington, DC, on April 17, 2020.
Scott M. Rosenbloom,
Acting Manager, Rules and Regulations Group.

[FR Doc. 2020-08556 Filed 4-22-20; 8:45 am]

BILLING CODE 4910-13-P